DEPARTMENT OF HEALTH AND HUMAN SERVICES

National Institutes of Health

Proposed Collection; Comment Request; NIH Intramural Research, Training Award, Program Application

SUMMARY: In compliance with the requirement of section 3506(c)(2)(A) of the Paperwork Reduction Act of 1995, for opportunity for public comment on proposed data collection projects, the Office of the Director, the National Institutes of Health (NIH) will publish periodic summaries of proposed projects to be submitted to the Office of Management and Budget (OMB) for review and approval.

Proposed Collection

Title: NIH Intramural Research Training Award, Program Application.

Type of Information Collection Request: Revision/OMB No. 0925-0299; 3/31/2003.

Need and Use of Information Collection: The proposed information collection activity is for the purpose of collecting data related to the availability of Training Fellowships under the NIH Intramural Research Training Award Program. This information must be submitted in order to received due consideration for an award and will be used to determine the eligibility and quality of potential awardees.

Frequency of Response: On occasion.

Affected Public: Individuals seeking Intramural Training award opportunities.

Type of Respondents: Postdoctoral, pre-doctoral, post-baccalaureate, technical, and student IRTA applicants. There are no capital costs, operating costs, and/or maintenance cost to report.

Type of respondent | Estimated number of respondents | Estimated number of responses per respondent | Average burden hours per response | Estimated total annual burden hours requested
Postdoctoral IRTA | 1,375 | 1.00 | 1.00 | 1375
Predoctoral | 306 | 1.00 | 1.00 | 306
Postbaccalaureate | 793 | 1.00 | 1.00 | 793
Technical IRTA | 83 | 1.00 | 1.00 | 83
Student IRTA | 3,800 | 1.00 | 1.00 | 3,800
References for all IRTA categories | 15,188 | 1.00 | 0.33 | 5,012
Total | 21,545 | 1.00 | 0.5276862 | 11,369

Request for Comments

Written comments and/or suggestions from the public and affected agencies are invited on one or more of the following points: (1) Whether the proposed collection of information is necessary for the proper performance of the agency, including whether the information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact: Edie Bishop, Personnel Management Specialist, Office of Human Resource Management, OD, NIH, Building 31, Room B3C07, 31 Center Drive MSC 2203, Behtesda, MD, 20892-2203, or call non-toll-free number (301) 496-1443, or e-mail your request, including your address to: Bishope@od.nih.gov.

Comments Due Date: Comments regarding this information collection are best assured of having their full effect if received within60 days of the date of this publication.

Dated: September 26, 2002.
Frederick C. Walker,
Acting Director of Human Resources.

[FR Doc. 02-25230 Filed 10-3-02; 8:45 am]

BILLING CODE 4140-01-M